ENVIRONMENTAL PROTECTION AGENCY

[EPA-HQ-OAR-2008-0699; FRL-8969-1]

Review of the National Ambient Air Quality Standards for Ozone

AGENCY: Environmental Protection Agency (EPA).

ACTION: Availability of draft document for public review and comment.

SUMMARY: On or about October 1, 2009, the National Center for Environmental Assessment (NCEA) and the Office of Air Quality Planning and Standards (OAQPS) of EPA is making available for public review and comment a draft document titled Integrated Review Plan for the Ozone National Ambient Air Quality Standards Review—External Review Draft.

This document contains the plans for the new periodic review of the air quality criteria for ozone (O3)-related effects on public health and public welfare and the current O3 standards or any revised standards that may result from the reconsideration of the 2008 O3 standards. This draft Integrated Review Plan (IRP) is being released for the purpose of consulting with the Clean Air Scientific Advisory Committee (CASAC) of EPA's Science Advisory Board ¹ and obtaining public comment on the Agency's plans. The final IRP will be informed by comments received from the CASAC and the public. The draft IRP will be posted on the Agency's Technology Transfer Network (TTN) Web site at: http://www.epa.gov/ttn/naaqs/standards/ozone/s_o3_index.html. The draft IRP may be accessed in the “Documents from Current Review” section under “Planning Documents.”

¹ For purposes of this review, the 7-member CASAC has been supplemented by additional scientific experts collectively referred to as the CASAC O3 NAAQS Review Panel.

DATES: Comments should be submitted on or before November 6, 2009.

ADDRESSES: Submit your comments, identified by Docket ID No. EPA-HQ-OAR-2008-0699, by one of the following methods:

□ www.regulations.gov: Follow the on-line instructions for submitting comments.

□ E-mail: a-and-r-Docket(epa.gov).

□ Fax: 202-566-9744.

□ Mail: EPA-HQ-OAR-2008-0699, Environmental Protection Agency, Mail code 6102T, 1200 Pennsylvania Ave., NW., Washington, DC 20460. Please include a total of two copies.

Hand Delivery: Environmental Protection Agency, EPA West, Room 3334, 1301 Constitution Ave., NW., Washington, DC. Such deliveries are only accepted during the Docket's normal hours of operation, and special arrangements should be made for deliveries of boxed information.

Instructions: Direct your comments to Docket ID No. EPA-HQ-OAR-2008-0699. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov (or e-mail). The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov. index. Although listed in the index, some information is not publicly available, e.g., CBI or other information whose disclosure is restricted by statute.

Certain other materials, such as copyrighted material, will be publicly available only in hard copy. Publicly available docket materials are available either electronically in www.regulations.gov or in hard copy at the Air and Radiation Docket and Information Center, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air and Radiation Docket and Information Center is (202) 566-1742.

FOR FURTHER INFORMATION CONTACT: Any questions concerning the draft IRP should be directed to Dr. David McKee at mckee.dave@epa.gov; telephone 919-541-5288.

General Information

A. What Should I Consider as I Prepare My Comments for EPA?

1. Submitting CBI. Do not submit this information to EPA through www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

□ Identify the rulemaking by docket number and other identifying information (subject heading, Federal Register date and page number).

□ Follow directions—The Agency may ask you to respond to specific questions or organize comments by referencing a Code of Federal Regulations (CFR) part or section number. Explain why you agree or disagree; suggest alternatives and substitute language for your requested changes.

□ Describe any assumptions and provide any technical information and/or data that you used.

□ If you estimate potential costs or burdens, explain how you arrived at your estimate in sufficient detail to allow for it to be reproduced.

□ Provide specific examples to illustrate your concerns, and suggest alternatives.

□ Make sure to submit your comments by the comment period deadline identified.

SUPPLEMENTARY INFORMATION: Under section 108(a) of the Clean Air Act (CAA), the Administrator identifies and lists certain pollutants which “cause or contribute to air pollution which may reasonably be anticipated to endanger public health or welfare.” The EPA then issues air quality criteria for listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, EPA establishes National Ambient Air Quality Standards (NAAQS) for each listed pollutant, with the NAAQS based on the air quality criteria, Section 109(d) of the CAA requires periodic review and, if appropriate, revision of existing air quality criteria. The revised air quality criteria reflect advances in scientific knowledge about the effects of the pollutant on public health or welfare. The EPA is also required to periodically review and revise the NAAQS, if appropriate, based on the revised criteria.

Air quality criteria have been established for O3, and primary and secondary O3 NAAQS have been set to provide protection against adverse health and welfare effects, respectively. EPA is currently reviewing the air quality criteria and NAAQS for O3, and the overall plan and schedule for this review is presented in the Integrated Review Plan for the Ozone National Ambient Air Quality Standards—External Review Draft.² This draft of the integrated review plan is available for public review and comment until November 6, 2009, and will be the subject of a consultation with the CASAC on November 13, 2009. Comments received from that consultation with CASAC and from the public will be considered in finalizing the plan and in beginning the review of the air quality criteria.

² EPA 452/D-09-001; September 2009; Available: http://www.epa.gov/ttn/naaqs/standards/ozone/s_o3_index.html

Dated: October 7, 2009.
Jennifer Noonan Edmonds,
Acting Director, Office of Air Quality Planning and Standards.

[FR Doc. E9-24815 Filed 10-16-09; 8:45 am]

BILLING CODE 6560-50-M